DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 27, 2022 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Rural Housing Service

Title: 7 CFR 1924-F, Complaints and Compensation Defects.

OMB Control Number: 0575-0082.

Summary of Collection: Section 509 of Title V of the Housing Act of 1949, as amended, authorizes the Rural Housing Service (RHS) to pay the costs for correcting defects or compensate borrowers of Section 502 Direct loan funds for expenses arising out of defects with respect to newly constructed dwellings and new manufactured housing units with funds authorized under this title. This is a reactionary-type procedure implemented to fulfill a need to inform field offices on how to deal with complaints generated by the public. The objective of this procedure is to be responsive to the public served by the Agency; and to minimize claims and civil actions against the Government by instituting a procedure for the resolution of complaints.

All Rural Housing Service personnel are to implement a procedure to accept and process complaints from the borrowers/owners against builders and dealers/contractors to resolve the complaint. When the complaint involves structural defects which cannot be resolved by the cooperation of the builders or dealers/contractors, the program authorizes expenditure to resolve the defects with grant funds, such resolution could involve expenditure for (1) repairing defects; (2) reimbursing for emergency repairs; (3) pay temporary living expenses or (4) convey dwelling to RHS with release of liability for the RHS loan.

Need and Use of the Information: The information is collected from agency borrowers and the local agency office serving the county in which the dwelling is located. This information is used by Rural Housing Staff to evaluate the request and assist the borrower in identifying possible causes and corrective actions. The information is collected on a case-by-case basis when initiated by the borrower. Without this information, RHS would be unable to assure that eligible borrowers would receive compensation to repair defects to their newly constructed dwellings.

Description of Respondents: Business or for-profit.

Number of Respondents: 100.

Frequency of Responses: Reporting: On occasion.

Total Burden Hours: 40.

Rural Housing Service

Title: 7 CFR 1944-N—Housing Preservation Grants.

OMB Control Number: 0575-0115.

Summary of Collection: Section 533 of Title V of the Housing Act of 1949, as amended, authorizes the Rural Housing Service (RHS) to make grants to eligible applicants to conduct housing preservation programs benefiting very low- and low-income rural residents. Program funds can cover part of the grantee's cost in providing loans, grants, interest reduction payments or other assistance to eligible homeowners, owners of single or multiple unit rental properties or for the benefit of owners (as occupants) of consumer cooperative housing projects. Such assistance will be used to reduce the cost of repair and rehabilitation, to remove or correct health or safety hazards, to comply with applicable development standards or codes, or to make needed repairs to improve the general living conditions of the resident(s), including improved accessibility by handicapped persons. Individual housing that is owner occupied may qualify for replacement housing when it is determined by the grantee that the housing is not economically feasible for repair or rehabilitation. These grants were established by the Rural Housing Amendments of 1983 which amended the Housing Act of 1949 by adding Section 533 (12 U.S.C. 1490m). The program is implemented at 7 CFR part 1944, subpart N.

Section 533(d) is prescriptive to the information applicants are to submit to RHS as part of their application as well as in the assessments and criteria RHS will use in selecting grantees. An applicant submits a “statement of activity” describing its proposed program, including a detailed description of specific activities, and production schedule. RHS is required to evaluate the proposals on a set of prescribed criteria, for which the applicant will also have to provide information, such as: (1) very low- and low-income persons proposed to be served by the repair and rehabilitation activities; (2) participation by other public and private organizations to leverage funds and lower the cost to the HPG program; (3) the area to be served in terms of population and need: (4) cost data to assure greatest degree of assistance at lowest cost; (5) administrative capacity of the applicant to carry out the program. The information collected will be the minimum required by law and needed by RHS to assure that it funds responsible grantees proposing feasible projects in areas of greatest need. Most data is taken from a localized area; although some data are derived from census reports of city, county and Federal governments showing population and housing characteristics.

Need and Use of the Information: Information is compiled initially by the applicant for consideration by RHS to determine eligibility for a grant and to justify selection of the applicant for funding. After funding, grantees collect information to report program accomplishments and to support expenditure of grant funds. RHS uses the information to determine if the grantee is complying with the grant agreement and to make decisions regarding continuing, modifying, or terminating grant assistance. If the information were not collected and presented to RHS, the Agency could not monitor the program or justify disbursement of grant funds. The information has been used to provide data to Congress.

Description of Respondents: Not-for-profit institutions; State, Local or Tribal Government.

Number of Respondents: 2,083.

Frequency of Responses: Recordkeeping; Reporting: On occasion; Quarterly.

Total Burden Hours: 10,997.

Levi S. Harrell,
Departmental Information Collection Clearance Officer.

[FR Doc. 2022-20893 Filed 9-26-22; 8:45 am]

BILLING CODE 3410-XV-P